DEPARTMENT OF COMMERCE

National Institute of Standards and Technology

Smart Grid Advisory Committee

AGENCY: National Institute of Standards and Technology, Department of Commerce.

ACTION: Notice of open meeting.

SUMMARY: The Smart Grid Advisory Committee (SGAC or Committee), will hold a meeting on Wednesday, September 29, 2010 from 8:30 a.m. to 5 p.m. The primary purpose of this meeting is to provide an orientation for Committee members and provide an update on NIST's Smart Grid program. The agenda may change to accommodate Committee business. The final agenda will be posted on the Smart Grid Web site at http://www.nist.gov/smartgrid.

DATES: The SGAC will hold a meeting on Wednesday, September 29, 2010, from 8:30 a.m. until 5 p.m. The meeting will be open to the public.

ADDRESSES: The meeting will be held in the Lecture Room C, in the Administration Building at NIST in Gaithersburg, Maryland. Please note admittance instructions under the SUPPLEMENTARY INFORMATION section of this notice.

FOR FURTHER INFORMATION CONTACT: Dr. George W. Arnold, National Coordinator for Smart Grid Interoperability, National Institute of Standards and Technology, 100 Bureau Drive, Mail Stop 8100, Gaithersburg, MD 20899-8100; telephone 301-975-2232, fax 301-975-4091; or via e-mail at nistsgfac@nist.gov.

SUPPLEMENTARY INFORMATION:

The Committee was established in accordance with the Federal Advisory Committee Act (5 U.S.C. App.).

Objectives and Duties

1. The Committee shall advise the Director of the National Institute of Standards and Technology (NIST) on carrying out duties authorized by section 1305 of the Energy Independence and Security Act of 2007 (Pub. L. 110-140).

2. The Committee functions solely as an advisory body in accordance with the provisions of the Federal Advisory Committee Act.

3. The Committee shall report to the Director of NIST.

4. The Committee shall provide input to NIST on the Smart Grid Standards, Priority, and Gaps. The Committee shall provide input on the overall direction, status and health of the Smart Grid implementation by the Smart Grid industry, including identification of issues and needs. Input to NIST will be used to help guide the Smart Grid Interoperability Panel activities and also assist NIST in directing research and standards activities.

5. Upon request of the Director of NIST, the Committee will prepare reports on issues affecting Smart Grid activities.

Background information on the Committee is available at http://www.nist.gov/smartgrid.

Pursuant to the Federal Advisory Committee Act, 5 U.S.C. App., notice is hereby given that the Smart Grid Advisory Committee (SGAC) will hold a meeting on Wednesday, September 29, 2010, from 8:30 a.m. until 5 p.m. The meeting will be held in the Lecture Room C, in the Administration Building at NIST in Gaithersburg, Maryland. The primary purpose of this meeting is to provide an orientation for Committee members and provide an update on NIST's Smart Grid program. The agenda may change to accommodate Committee business. The final agenda will be posted on the Smart Grid Web site at http://www.nist.gov/smartgrid.

Individuals and representatives of organizations who would like to offer comments and suggestions related to the Committee's affairs are invited to request a place on the agenda. On September 29, 2010, approximately one-half hour will be reserved at the end of the meeting for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to attend in person are invited to submit written statements to the Office of the National Coordinator for Smart Grid Interoperability, National Institute of Standards and Technology, 100 Bureau Drive, Mail Stop 8100, Gaithersburg, MD 20899-8100; fax 301-975-4091; or via e-mail at nistsgfac@nist.gov.

All visitors to the NIST site are required to pre-register to be admitted. Anyone wishing to attend this meeting must register by close of business Monday, September 20, 2010, in order to attend. Please submit your name, time of arrival, e-mail address, and phone number to Cuong Nguyen. Non-U.S. citizens must also submit their country of citizenship, title, employer/sponsor, and address. Mr. Nguyen's e-mail address is cuong.nguyen@nist.gov and his phone number is (301) 975-2254.

Dated: September 2, 2010.
Harry S. Hertz,
Director, Baldrige National Quality Program.

[FR Doc. 2010-22660 Filed 9-9-10; 8:45 am]

BILLING CODE 3510-13-P